DEPARTMENT OF HOMELAND SECURITY

Federal Emergency Management Agency

[Docket ID: FEMA-2017-0013; OMB No. 1660-0072]

Agency Information Collection Activities: Proposed Collection; Comment Request; Mitigation Grant Programs/e-Grants

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the collection of information necessary to implement grants for the Flood Mitigation Assistance (FMA) program and the Pre-Disaster Mitigation (PDM) program.

DATES: Comments must be submitted on or before July 10, 2017.

ADDRESSES: To avoid duplicate submissions to the docket, please use only one of the following means to submit comments:

(1) Online. Submit comments at www.regulations.gov under Docket ID FEMA-2017-0013. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jennie Orenstein, Branch Chief, HMA Division—Grants Policy, (202) 212-4071. You may contact the Records Management Division for copies of the proposed collection of information at email address: FEMA-Information-Collections-Management@fema.dhs.gov.

SUPPLEMENTARY INFORMATION: The FMA program is authorized by Section 1366 of the National Flood Insurance Act of 1968, as amended, 42 U.S.C. 4104c. The FMA program, under 44 CFR part 79, provides funding for measures taken to reduce or eliminate the long-term risk of flood damage to buildings, manufactured homes, and other structures insured under the National Flood Insurance Program. The Biggert-Waters Flood Insurance Reform Act of 2012 (Pub. L. 112-141) eliminated the Repetitive Flood Claims (RFC) and Severe Repetitive Loss (SRL) programs, and made significant changes to the FMA program by consolidating the former RFC and SRL programs into FMA. Cost-share requirements were changed to allow more Federal funds for properties with repetitive flood claims.

The PDM program is authorized by Section 203 of the Robert T. Stafford Disaster Relief and Emergency Assistance Act, 42 U.S.C. 5133, as amended by Section 102 of the Disaster Mitigation Act of 2000, Public Law 106-390, 114 Stat. 1553. It provides grants for cost-effective mitigation actions prior to a disaster event to reduce overall risks to the population and structures, while also reducing reliance on funding from actual disaster declarations.

In accordance with OMB Circular A-102, FEMA requires that all parties interested in receiving FEMA mitigation grants submit an application package for grant assistance. Applications and subapplications for the PDM and FMA programs are submitted via the e-Grants system. The e-Grants system was developed and updated to meet the intent of the e-Government initiative, authorized by Public Law 106-107. This initiative required that all government agencies both streamline grant application processes and provide for the means to electronically create, review, and submit a grant application via the Internet. Title 2 CFR 200.335, promulgated in 2013, encourages Federal awarding agencies and non-Federal entities to, whenever practicable, collect, transmit, and store Federal award-related information in open and machine readable formats rather than in closed formats or on paper.

FEMA is proposing to add a new form to this collection to better provide customer-centric clarity and uniformity in the way FEMA collects information on the progress of FMA/PDM-funded hazard mitigation projects. The new “Non-Disaster Quarterly Progress Report” form will replace the obsolete SF-425. Title 2 CFR 200.328 authorizes the collection of information on the progress of activities conducted under Federal awards.

Collection of Information

Title: Mitigation Grant Programs/e-Grants.

Type of Information Collection: Revision of a currently approved information collection.

OMB Number: 1660-0072.

FEMA Forms: A FEMA Form number for the new Non-Disaster Quarterly Progress Report form is currently pending.

Abstract: FEMA's Flood Mitigation Assistance and Pre-Disaster Mitigation programs utilize an automated grant application and management system called e-Grants. These grant programs provide funding for the purpose of reducing or eliminating the risks to life and property from hazards. The e-Grants system includes all of the application information needed to apply for funding under these grant programs.

Affected Public: State, local or Tribal government.

Number of Respondents: 56.

Number of Responses: 4,200.

Estimated Total Annual Burden Hours: 18,088.

Estimated Cost: The estimated annual cost to respondents is $893,366. The estimated annual cost to the Federal government is $6,598,456.16. There are no annual recordkeeping, capital, start-up, or operation and maintenance costs to respondents associated with this collection of information.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

William H. Holzerland,
Senior Director for Information Management, Office of the Chief Administrative Officer Mission Support, Federal Emergency Management Agency, Department of Homeland Security.

[FR Doc. 2017-09359 Filed 5-8-17; 8:45 am]

BILLING CODE 9111-52-P